DEPARTMENT OF LABOR

Employment and Training Administration

[TA-W-56,851]

Xerox Corporation, Business Group Operations Workers Producing Base Finisher Module Webster, NY; Notice of Termination of Investigation

Pursuant to Section 221 of the Trade Act of 1974, as amended, an investigation was initiated on March 30, 2005 in response to a worker petition filed on behalf of workers producing Base Finisher Modules at Business Group Operations of Xerox Corporation, Webster, New York.

The petitioning group of workers is covered by an active certification, TA-W-53,004, which expires on October 20, 2005. Consequently, further investigation in this case would serve no purpose, and the investigation has been terminated.

Signed at Washington, DC this 12th day of April, 2005.
Elliott S. Kushner,
Certifying Officer, Division of Trade Adjustment Assistance.

[FR Doc. 05-8911 Filed 4-28-05; 8:45 am]

BILLING CODE 4510-30-M